DEPARTMENT OF COMMERCE

International Trade Administration

[A-580-854, A-201-833]

Postponement of Preliminary Determinations of Antidumping Duty Investigations: Certain Circular Welded Carbon Quality Line Pipe from Mexico and the Republic of Korea

AGENCY: Import Administration, International Trade Administration, Department of Commerce.

SUMMARY: The Department of Commerce (the Department) is postponing the preliminary determinations in the antidumping duty investigations of certain circular carbon quality line pipe from Mexico and the Republic of Korea until no later than September 29, 2004. This postponement is made pursuant to section 733(c)(1)(B) of the Tariff Act of 1930, as amended (the Act).

EFFECTIVE DATE: July 27, 2004.

FOR FURTHER INFORMATION CONTACT: John Drury (Mexico) or Brandon Farlander (Korea), at (202) 482-0195 or (202) 482-0195, respectively, Import Administration, International Trade Administration, U.S. Department of Commerce, 14th Street and Constitution Avenue, NW, Washington, DC 20230.

SUPPLEMENTARY INFORMATION:

Background

On March 23, 2004, the Department initiated antidumping duty investigations of imports of certain circular welded carbon quality line pipe from Mexico, the Republic of Korea (Korea), and the People's Republic of China (China). See Notice of Initiation of Antidumping Duty Investigations: Certain Circular Welded Carbon Quality Line Pipe from Mexico, the Republic of Korea, and the People's Republic of China, 69 FR 16521 (March 30, 2004). Section 733(b) of the Act requires the Department to make a preliminary determination no later than 140 days after the date of initiation. The preliminary determinations in these investigations are currently due not later than August 10, 2004.

Postponement of Preliminary Determinations

Under section 733(c)(1)(B) of the Act, the Department can extend the period for reaching a preliminary determination until not later than the 190th day after the date on which the administering authority initiates an investigation if the administering authority concludes that the parties concerned are cooperating and determines that: (i) the case is extraordinarily complicated by reason of (I) the number and complexity of the transactions to be investigated or adjustments to be considered; (II) the novelty of the issues presented; or (III) the number of firms whose activities must be investigated; and (ii) additional time is necessary to make the preliminary determination.

The parties concerned are cooperating in these investigations. Additional time is necessary, however, to complete the preliminary determinations for Mexico and Korea due to

(1) the number and complexity of the transactions to be investigated and adjustments to be considered, and (2) certain affiliation issues.

Moreover, with respect to the Mexican and both Korean respondents, on July 9, 2004, the Department received from American Steel Pipe Division of ACIPC, IPSCO Tubulars Inc., Lone Star Steel Company, Maverick Tube Corporation, Northwest Pipe Company, and Stupp Corporation, petitioners in these investigations, company-specific allegations that sales were made below the cost of production during the period of investigation. We are currently reviewing these allegations. Therefore, for both investigations, additional time is required to review the issues and the cost information for purposes of the preliminary determinations.

For the reasons identified above, we are postponing the preliminary determinations under Section 733(c)(1)(A) of the Act by 50 days, to no later than September 29, 2004. The deadline for the final determinations will continue to be 75 days after the date of the preliminary determinations. This notice is issued and published pursuant to sections 733(f) and 777(i) of the Act.

Dated: July 21, 2004.
Holly A. Kuga,
Acting Assistant Secretary for Import Administration.

[FR Doc. 04-17072 Filed 7-26-04; 8:45 am]

BILLING CODE 3510-DS-S